NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 17, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2016-006

1. Applicant Angela L. Sremba, Hatfield Marine Science Center, Oregon State University, 2030 SE. Marine Science Drive, Newport, OR 97365.

Activity for Which Permit Is Requested

Take, Import into USA. The applicant intends to collect bone samples from Antarctic blue whale remains at abandoned whaling stations and bays in the South Shetland Islands and sites along the Antarctic Peninsula, while based aboard a commercial tour ship. These samples will be used for genetic analyses to determine genetic diversity and population dynamics of Antarctic blue whales prior to their commercial exploitation throughout the 20th century. Samples will be sent back to the USA for analysis.

Location

South Shetland Islands, sites along Antarctic Peninsula.

Dates

October 1, 2015-October 1, 2020

Nadene G. Kennedy,
Polar Coordination Specialist, Division of Polar Programs.

[FR Doc. 2015-20304 Filed 8-17-15; 8:45 am]

BILLING CODE 7555-01-P